DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of January and February, 2000.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or subdivision have decreased absolutely, and

(3) That increases of imports of articles like or directly competitive with aticles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-36,688; Flynt Fabrics, Inc., Wadesboro, NC

In the following cases, the investigation revealed that the criteria for eligibility have not been met for the reasons specified.

TA-W-37,100; Maine Yankee Atomic Power Co., Wiscasset, ME

TA-W-37,246; Epperheimer, Inc., Kenai, AK

TA-W-37,204; General Electric, GE Capital, Brookfield, WI

TA-W-37,204; General Electric, GE Capital, Brookfield, WI

TA-W-37,299; L.G. & E Natural Gathering & Processing, Hobbs, NM

TA-W-37,177; Acker & Jablow Fabrics LTD, New York, NY

TA-W-37,248; FirstFleet, Inc., Harlingen, TX

TA-W-37,234; Seagate Technology, Inc., Customer Service Operations & Research and Design Center, Oklahoma City, OK

The workers firm does not produce an article as required for certification under section 222 of the Trade Act of 1974.

TA-W-37,075; Steeltech, Milwaukee, WI

TA-W-36,954; Intel Corp., Chandler Assembly Test Facility, Chandler, AZ

TA-W-36,991; Piezo Crystal, Carlisle, PA

TA-W-37,096; Royal Oak Enterprises, Meta, MO

TA-W-37,144; AlliedSignal, Mishawaka, IN

TA-W-37,109; DMI Furniture, Inc., Plant #4, Ferdinand, IN

TA-W-37,242; Wardson, Inc., Adamsville, TN

TA-W-37,189; B.F. Goodrich, Fairbanks Morse Engine Div., Beloit, WI

TA-W-37,086; Garden State Tanning, Inc., Adrian, MI

Increased imports did not contribute importantly to worker separations at the firm.

TA-W-37,164; Fogel Neckwear Corp., New York, NY

The investigation revealed that criteria (2) and criteria (3) have not been met. Sales or production did not decline during the relevant period as required for certification. Increases of imports of articles like or directly competitive with articles produced by the firm or an appropriate subdivision have not contributed importantly to the separations or threat thereof, and the absolute decline in sales or production.

TA-W-37,201; Drummond Co., Inc., Cedrum Mine Walker County, Birmingham, AL

U.S. imports of coal from all sources were negligible (less than one percent of U.S. production) during the relevant period.

Affirmative Determinations for Worker Adjustment Assistance

The following certifications have been issued; the date following the company name and location of each determination references the impact date for all workers of such determination.

TA-W-37,183; Lido Fashions, Paterson, NJ; November 19, 1998.

TA-W-37,121; Quantegy, Inc., Opelika, AL; November 10, 1998.

TA-W-37,206; Tultex Corp., Roxboro, NC and Longhurst, NC; December 10, 1998.

TA-W-37,112; Sourceone Manufacturing Services LLC, Brookhill and North Avenue Plants, Baltimore, MD; November 1, 1998.

TA-W-37,157; The Chinet Co., Waterville, ME; November 30, 1998.

TA-W-37,071; Technistar Corp., Longmont, CO; October 27, 1998.

TA-W-37,032; FAG Bearings, Joplin, MO; October 21, 1998.

TA-W-37,026; Stupp Corp., Baton Rouge, LA; October 14, 1998.

TA-W-37,158; Paramount Knit, Bourbon, MO; November 30, 1998.

TA-W-37,085; Tulon, Inc., Gardena, CA; November 10, 1998.

TA-W-37,115; Neles Automation, Field Control Div., Shrewsbury, MA; November 15, 1998.

TA-W-37, 268; Hampton Industries, Inc., Warrenton, NC: January 24, 1999.

TA-W-37, 033; United Technologies Automotive, Inc., a/k/a Lear Corp, Ceramic Ave. Plant, Zanesville, OH: February 7, 1999.

TA-W-37, 235; Angelica Image Apparel, Ackerman Facility, Ackerman, MS: December 16, 1998.

TA-W-37, 042; Wilson Sporting Goods Co., Sparta, TN: October 22, 1998.

TA-W-37, 197; Kellwood Co., Sportswear Div., Calhoun City, MS: December 6, 1998.

TA-W-37, 253; TAB Products, Turlock, CA: December 18, 1998.

TA-W-37, 196; Littonian Shoe Co., Littlestown, PA: January 29, 2000.

TA-W-37, 228 & A, B; Third Generation, Inc, Latta, SC, Ware Shoals, SC and Honea Path, SC: December 22, 1998.

TA-W-37, 892; NEC Technologies, Inc., Georgia Plant, McDonough, GA: August 25, 1998.

TA-W-37, 233; Dana Corp., Parish Light Vehicle Structures Div., Reading, PA: February 9, 2000.

TA-W-36, 990 & A, B & C; Bayer Clothing Group, Inc., Target Square Facility, Clearfield, PA, Fletcherville Facility, Clearfield, PA, Hyde Facility, Hyde, PA and Kent Facility, Curwensville, PA: October 5, 1998.

TA-W-37, 006; Kim Michaels, Inc., Hammonton, NJ: October 12, 1998.

TA-W-37, 180; Russell Manufacturing, Inc., Lebanon, VA: December 3, 1998.

TA-W-37, 971; United Distillers and Vintners of North America, Allen Park, MI: September 28, 1998.

TA-W-36, 961; General Electric Meter Business, Single Phase Residential Meter Final Assembly, Somersworth, NH: September 29, 1998.

TA-W-37, 007; Metlakatla Forest Products, Metlakatla, AK: October 7, 1998.

TA-W-37, 126; Spartan Mills, Beaumont Mills Plant, Spartanburg, SC: November 15, 1998.

TA-W-37, 014; Spartan Mills, John H. Montgomery Plant, Chesnee, SC: October 20, 1998.

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of January and February, 2000.

In order for an affirmative determination to be made and a certification of eligibility to apply for NAFTA-TAA the following group eligibility requirements of Section250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' for separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to worker' separations. There was no shift in production from the subject firm to Canada or Mexico during the relevant period.

NAFTA-TAA-03597; Spartan Mills, Beaumont Mills Plant, Spartansburg, SC

NAFTA-TAA-03618; B.F. Goodrich, Fairbanks Morse Engine Div., Beloit, WI

NAFTA-TAA-03648; Wardson, Inc., Adamsville, TN

NAFTA-TAA-03541; FAG Bearings, Joplin Plant, Joplin, MO

NAFTA-TAA-03539; Stupp Bros., Inc., Stupp Corp., Baton Rouge, LA

NAFTA-TAA-03569; Kim Michaels, Inc., Hammonton, NJ

NAFTA-TAA-03557; Royal Oak Enterprises, Meta, MO

NAFTA-TAA-03536; Spartan Mills, John H. Montgomery Plant, Chesnee, SC

NAFTA-TAA-0346 A; UNIFI, Inc., Raeford Plant, NC and Sanford Plant, Sanford, NC

NAFTA-TAA-03584; Masonite Corp., Pilot Rock, Or

NAFTA-TAA-03643; Republic Builders Products Corp., Oyersburg, TN

NAFTA-TAA-03344; Flynt Fabrics, Inc., Wadesboro, NC

NAFTA-TAA-03591; Vincent Dress, Inc., Jermyn, PA

NAFTA-TAA-03599; Hagale Industries, Inc., Marshfield, MO

NAFTA-TAA-03567; DMI Furniture, Inc., Desk Plant #4, Ferdinand, IN

The investigation revealed that the criteria for eligibility have not been met for the reasons specified.

NAFTA-TAA-3693; Lower Umpqua Federal Credit Union, Reedsport, OR

NAFTA-TAA-03675; KTI Energy of Martinsville, Inc., Martinsville, VA

NAFTA-TAA-03664; Snap-On, Inc., Ottawa, IL

NAFTA-TAA-03634; General Electric, GE Capital, Brookfield, WI

NAFTA-TAA-03659; FirstFleet, Inc., Harlingen, TX

The investigation revealed that workers of the subject firm did not produce an article within the meaning of Section 250(a) of the Trade Act, as amended.

Affirmative Determinations NAFTA-TAA

NAFTA-TAA-03526; IMC Plastics, Inc., Tualatin, OR: October 20, 1998.

NAFTA-TAA-03697; O'Bryan Brothers, Inc., Richland Center, WI: January 10, 1999.

NAFTA-TAA-03576; Champion Laboratories, Inc., Fuel Filter Technologies, Inc., Shelby Township, MI: November 5, 1998.

NAFTA-TAA-03652; ABB Automation, Inc., Electronic & Systems Assembly Div., Williamsport, PA: December 28, 1998.

NAFTA-TAA-03573; Hempfield Foundries Co., Greensburg, PA: November 9, 1998.

NAFTA-TAA-03586; Neles Automation, Field Control Div., Shrewsbury, MA: November 15, 1998.

NAFTA-TAA-03626; Russell Manufacturing, Lebanon, VA: December 3, 1998.

NAFTA-TAA-03404; Thomas & Betts Corp., Communications Division, Kent, WA: August 16, 1998.

NAFTA-TAA-03655; Nutone, Inc., Coppell, TX: January 4, 1999.

NAFTA-TAA-03607; The Chinet Co., Waterville, ME: December 1, 1998.

NAFTA-TAA-03639; Dana Corp., Parish Light Vehicle Structures Div., Reading, PA: January 24, 2000.

NAFTA-TAA-03511; Metlakatla Forest Products, Metlakatla, AK: October 15, 1998.

NAFTA-TAA-03600; Garden State Tanning, Inc., Adrian, MI: November 8, 1998.

NAFTA-TAA-03608; White Swan-Meta, Dawson Springs, KY: December 2, 1998.

NAFTA-TAA-03619; Sulzer Pumps, Portland, OR: December 7, 1998.

NAFTA-TAA-03620; VF Workwear, Inc., Erwin, TN: December 7, 1998.

NAFTA-TAA-03667; Winpak Portion Packaging, Bristol, PA: January 7, 1999.

I hereby certify that the aforementioned determinations were issued during the month of January and February, 2000. Copies of these determinations are available for inspection in Room C-4318, U.S. Department of Labor, 2000 Constitution Avenue, NW, Washington, DC 20210 during normal business hours or will be mailed to persons who write to the above address.

Dated: February 9, 2000.
Grant D. Beale,
Program Manager, Division of Trade Adjustment Assistance.

[FR Doc. 00-3507 Filed 2-14-00; 8:45 am]

BILLING CODE 4510-30-M